DEPARTMENT OF TRANSPORTATION

Federal Aviation Administration

14 CFR Part 71

[Docket No. FAA-2025-0107; Airspace Docket No. 25-ASO-1]

RIN 2120-AA66

Amendment of Class D Airspace; Jupiter, FL

AGENCY: Federal Aviation Administration (FAA), DOT.

ACTION: Final rule; correction.

SUMMARY: This action corrects a final rule published by the FAA in the Federal Register on June 3, 2025. That final rule amended Class D airspace extending upward from the surface to and including 2,500 feet MSL within a 4.5-mile radius of William P. Gwinn Airport in Jupiter, FL, beginning at the 205° bearing from the airport clockwise to the 145° bearing, thence to the beginning point. However, there was an administrative error in the airspace description, with the incorrect state listed. Therefore, this action corrects that final rule by revising the airspace header to the correct state.

DATES: The effective date of the final rule published in the Federal Register on June 3, 2025 (90 FR 13571), remains 0901 UTC, August 7, 2025. The Director of the Federal Register approves this incorporation by reference action under 1 CFR part 51, subject to the annual revision of FAA Order JO 7400.11 and publication of conforming amendments.

FOR FURTHER INFORMATION CONTACT: Rachel Cruz, Operations Support Group, Eastern Service Center, Federal Aviation Administration, 1701 Columbia Ave., College Park, GA 30337; Telephone (404) 305-5571.

SUPPLEMENTARY INFORMATION:

History

The FAA published a final rule (90 FR 23436; June 3, 2025) amending Class D airspace at William P. Gwinn Airport in Jupiter, FL. After publication, the FAA discovered that the airspace description provided an incorrect state. Therefore, the FAA corrects the final rule as follows.

Correction to Final Rule

Accordingly, pursuant to the authority delegated to me, the final rule for Docket No. FAA-2025-0107, as published in the Federal Register on June 3, 2025 (90 FR 23436; FR Doc. 2025-09998), is corrected as follows:

1. On page 23437, in the second column, below the row of asterisks under the section heading “Paragraph 5000 Class D Airspace.”, revise the airspace heading for Jupiter, FL to read “ASO FL D Jupiter, FL [Amended]”.

Issued in College Park, Georgia, on June 11, 2025.
Andreese C. Davis,
Manager, Airspace & Procedures Team South, Eastern Service Center, Air Traffic Organization.

[FR Doc. 2025-11200 Filed 6-17-25; 8:45 am]

BILLING CODE 4910-13-P